DEPARTMENT OF JUSTICE

Notice of Lodging of Proposed Consent Decree Under the Clean Water Act

On July 24, 2018, the Department of Justice lodged a proposed Consent Decree with the United States District Court for the Southern District of West Virginia in the lawsuit entitled United States and West Virginia v. CSX Transportation, Inc., Civil Action No. 2:18-cv-01175.

The Complaint alleges that Defendant CSX Transportation, Inc., violated the Clean Water Act, the West Virginia Water Pollution Control Act, and the West Virginia Groundwater Protection Act by discharging oil into Armstrong Creek and the Kanawha River after Defendant's train derailed in February 2015 near Mount Carbon, West Virginia. The Consent Decree resolves the alleged violations through a settlement package with two components. First, the Consent Decree requires Defendant to pay a total civil penalty of $2.2 million: $1.2 million to resolve the United States' claims, and $1 million to resolve West Virginia's claims. Second, Defendant must participate in a State supplemental environmental project (“State SEP”) to settle West Virginia's claims only. The State SEP requires Defendant to pay $500,000 into a State-created and State-owned escrow account that the State will use to fund upgrades to the Kanawha Falls Public Service District water treatment facility in Fayette County, West Virginia.

The publication of this notice opens a period for public comment on the Consent Decree. Comments should be addressed to the Acting Assistant Attorney General, Environment and Natural Resources Division, and should refer to United States and West Virginia v. CSX Transportation, Inc., Civil Action No. 2:18-cv-01175, DOJ number 90-5-1-1-11264. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $5.75 (25 cents per page reproduction cost) payable to the United States Treasury. For a paper copy without the signature pages, the cost is $4.25.

Robert Brook,
Assistant Section Chief, Environmental Enforcement Section, Environment and Natural Resources Division.

[FR Doc. 2018-16087 Filed 7-26-18; 8:45 am]

BILLING CODE 4410-15-P